DEPARTMENT OF ENERGY

Federal Energy Regulatory Commission

[Project Nos. P-10254-023; P-10253-027]

Pelzer Hydro Company, Inc. Consolidated Hydro Southeast, Inc.; Notice of Intent To File License Application, Filing of Pre-Application Document, and Approving Use of the Traditional Licensing Process

a. Type of Filing: Notice of Intent to File License Application and Request to Use the Traditional Licensing Process.

b. Project Nos.: P-10254-023, and P-10253-027.

c. Date Filed: November 11, 2012.

d. Submitted by: Pelzer Hydro Company, Inc. and Consolidated Hydro Southeast, Inc., both fully owned subsidiaries of Enel Green Power North America, Inc.

e. Name of Projects: Upper Pelzer Hydroelectric Project (P-10254) and Lower Pelzer Hydroelectric Project (P-10253).

f. Location: On the Saluda River in Anderson and Greenville counties near the town of Pelzer (P-10254), and the town of Williamston (P-10253), South Carolina. No federal lands are occupied by the project works or located within the project boundary of either project.

g. Filed Pursuant to: 18 CFR 5.3 of the Commission's regulations.

h. Potential Applicant Contact: Beth E. Harris, P.E., Southeast Regional Manager, Aquenergy Systems, Inc., 11 Anderson St., Piedmont, SC 29674; email—Beth.Harris@Enel.com.

i. FERC Contact: Sean Murphy at (202) 502-6145 or via email at sean.murphy@ferc.gov.

j. Pelzer Hydro Company, Inc. and Consolidated Hydro Southeast, Inc., filed their request to use the Traditional Licensing Process/Alternative Licensing Procedures on November 11, 2012. Pelzer Hydro Company, Inc. and Consolidated Hydro Southeast, Inc. provided public notice of its request on February 13, 2013. In a letter dated April 5, 2013, the Director of the Division of Hydropower Licensing approved Pelzer Hydro Company, Inc. and Consolidated Hydro Southeast, Inc.'s request to use the Traditional Licensing Process.

k. With this notice, we are initiating informal consultation with: (a) the U.S. Fish and Wildlife Service and/or NOAA Fisheries under section 7 of the Endangered Species Act and the joint agency regulations thereunder at 50 CFR, Part 402; and (b) the South Carolina State Historic Preservation Officer, as required by section 106, National Historical Preservation Act, and the implementing regulations of the Advisory Council on Historic Preservation at 36 CFR 800.2.

l. With this notice, we are designating Pelzer Hydro Company, Inc. and Consolidated Hydro Southeast, Inc., as the Commission's non-federal representative for carrying out informal consultation, pursuant to section 7 of the Endangered Species Act and section 106 of the National Historic Preservation Act.

m. Pelzer Hydro Company, Inc. and Consolidated Hydro Southeast, Inc., filed a Pre-Application Document (PAD; including a proposed process plan and schedule) with the Commission, pursuant to 18 CFR 5.6 of the Commission's regulations.

n. Copies of the PADs are available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. Copies are also available for inspection and reproduction at the address in paragraph h.

o. The licensee states its unequivocal intent to submit an application for a new license for Project No. 10254. The licensee states its unequivocal intent to submit an application for a voluntary new license for Project No. 10253. Pursuant to 18 CFR 16.8, 16.9, and 16.10 each application for a new license and any competing license applications must be filed with the Commission at least 24 months prior to the expiration of the existing license. All applications for license for these projects must be filed by November 30, 2015.

p. Register online at http://www.ferc.gov/docs-filing/esubscription.asp to be notified via email of new filing and issuances related to this or other pending projects. For assistance, contact FERC Online Support.

Dated: April 5, 2013.
Kimberly D. Bose,
Secretary.

[FR Doc. 2013-08590 Filed 4-11-13; 8:45 am]

BILLING CODE 6717-01-P